DEPARTMENT OF COMMERCE

Foreign-Trade Zones Board

[B-22-2017]

Foreign-Trade Zone (FTZ) 167—Brown County, Wisconsin; Authorization of Production Activity; Polaris Industries, Inc.; (Spark-Ignition Internal Combustion Engines); Osceola, Wisconsin

On April 4, 2017, Polaris Industries, Inc., submitted a notification of proposed production activity to the FTZ Board within Subzone 167B, in Osceola, Wisconsin.

The notification was processed in accordance with the regulations of the FTZ Board (15 CFR part 400), including notice in the Federal Register inviting public comment (82 FR 17968, April 14, 2017). On August 8, 2017, the applicant was notified of the FTZ Board's decision that no further review of the activity is warranted at this time. The production activity described in the notification was authorized, subject to the FTZ Act and the FTZ Board's regulations, including Section 400.14.

Dated: August 16, 2017.
Andrew McGilvray,
Executive Secretary.

[FR Doc. 2017-17696 Filed 8-21-17; 8:45 am]

BILLING CODE 3510-DS-P